DEPARTMENT OF TRANSPORTATION

Office of the Secretary of Transportation

14 CFR Chapters I, II, and III

23 CFR Chapters I, II, and III

46 CFR Chapter II

48 CFR Chapter 12

49 CFR Chapters I, II, III, V, VI, VII, VIII, X, and XI

[Docket No. DOT-OST-2021-0036]

Notification of Regulatory Review

AGENCY: Office of the Secretary of Transportation (OST); U.S. Department of Transportation (DOT).

ACTION: Regulatory review.

SUMMARY: As directed by Executive Order 13990, “Protecting Public Health and the Environment and Restoring Science to Tackle the Climate Crisis,” and Executive Order 13992, “Revocation of Certain Executive Orders Concerning Federal Regulation,” the U.S. Department of Transportation (Department or DOT) is currently reviewing its existing regulations and other agency actions to determine whether they are consistent with the policies and National objectives set forth in these executive orders. As part of this review, the Department invites the public to provide input on existing rules and other agency actions for the Department's consideration regarding consistency with the policies and objectives of these executive orders.

DATES: Comments should be received on or before June 4, 2021. Late-filed comments will be considered to the extent practicable.

ADDRESSES: You may file comments identified by the docket number DOT-OST-2021-0036 by any of the following methods:

Federal eRulemaking Portal: Go to http://www.regulations.gov and follow the online instructions for submitting comments.

Mail: Docket Management Facility, U.S. Department of Transportation, 1200 New Jersey Ave. SE, Room W12-140, Washington, DC 20590-0001.

Hand Delivery or Courier: The Docket Management Facility is located on the West Building, Ground Floor, of the U.S. Department of Transportation, 1200 New Jersey Ave. SE, Room W12- 140, between 9 a.m. and 5 p.m., Monday through Friday, except Federal holidays.

Fax: 202-493-2251.

Instructions: You must include the Docket Number DOT-OST-2021-0036 at the beginning of your comment. All comments received will be posted without change to http://www.regulations.gov, including any personal information provided.

Privacy Act: DOT posts public comments, without edit, to www.regulations.gov, as described in the system of records notice, DOT/ALL-14 FDMS, accessible through www.dot.gov/privacy. To facilitate comment tracking and response, we encourage commenters to provide their name, or the name of their organization; however, submission of names is completely optional. Regardless of whether commenters identify themselves, timely comments will be considered. If you wish to provide comments containing proprietary or confidential information, please contact the agency for alternate submission instructions.

Docket: For access to the docket to read background documents or comments received, go to http://www.regulations.gov or to the street address listed above. Follow the online instructions for accessing the docket.

FOR FURTHER INFORMATION CONTACT: Elizabeth Kohl, Attorney-Advisor, U.S. Department of Transportation, 1200 New Jersey Ave. SE, Washington, DC 20590, 202-366- 7523 (phone), elizabeth.kohl@dot.gov (email).

SUPPLEMENTARY INFORMATION: On January 20, 2021, the President issued Executive Order (E.O.) 13990, “Protecting Public Health and the Environment and Restoring Science to Tackle the Climate Crisis” (86 FR 7037; Jan. 25, 2021), and E.O. 13992, “Revocation of Certain Executive Orders Concerning Federal Regulation” (86 FR 7049; Jan. 25, 2021).

In E.O. 13990, the President acknowledged the Nation's “abiding commitment to empower our workers and communities, promote and protect our public health and the environment; and conserve our national treasures and monuments, places that secure our national memory.” The President also set forth the policy of the Administration to “listen to the science; to improve public health and protect our environment; to ensure access to clean air and water; to limit exposure to dangerous chemicals and pesticides; to hold polluters accountable, including those who disproportionately harm communities of color and low-income communities; to reduce greenhouse gas emissions; to bolster resilience to the impacts of climate change; to restore and expand our national treasures and monuments; and to prioritize both environmental justice and the creation of the well-paying union jobs necessary to deliver on these goals.” To that end, the President directed the heads of all executive departments and agencies, including DOT, to immediately review and, as appropriate and consistent with applicable law, address the promulgation of Federal regulations and other actions that conflict with these important national objectives, as well as to immediately commence work to confront the climate crisis.” E.O. 13990 specifically directed the Secretary of Transportation to review and consider publishing for notice and comment a proposed rule suspending, revising, or rescinding: “The Safer Affordable Fuel-Efficient (SAFE) Vehicles Rule Part One: One National Program,” and “The Safer Affordable Fuel-Efficient (SAFE) Vehicles Rule for Model Years 2021-2026 Passenger Cars and Light Trucks.” In a Fact Sheet issued by the President simultaneously with E.O. 13990, the President also directed DOT to review “Hazardous Materials: Liquefied Natural Gas by Rail” (https://www.whitehouse.gov/briefing-room/statements-releases/2021/01/20/fact-sheet-list-of-agency-actions-for-review/).

In E.O. 13992, the President set forth the Administration's policy “to use available tools to confront the urgent challenges facing the Nation, including the coronavirus disease 2019 (COVID-19) pandemic, economic recovery, racial justice, and climate change.” The President stated that “[t]o tackle these challenges effectively, executive departments and agencies . . . must be equipped with the flexibility to use robust regulatory action to address national priorities.” E.O. 13992 revoked certain executive orders issued prior to January 20, 2021 and directed the Director of the Office of Management and Budget and the heads of agencies, including DOT, to promptly take steps to rescind any orders, rules, regulations, guidelines, or policies, or portions thereof, implementing or enforcing these revoked executive orders, as appropriate and consistent with applicable law.

To respond to the President's direction in E.O. 13990 and E.O. 13992, the Department seeks input from the public on existing regulations or other agency actions for the Department's consideration regarding consistency with the policies and objectives of these executive orders. In recognition of the fact that safety is the Department's highest priority, DOT also seeks comment on those existing regulations or other agency actions that the Department can address without compromising, or to further improve, safety. The Department welcomes public comment on any of its regulations and other agency actions to achieve the goals of E.O. 13990 and E.O. 13992.

Content of Comments: The Department will review comments submitted timely to the docket associated with this regulatory review, DOT-OST-2021-0036. To maximize the usefulness of comments, the Department encourages commenters to provide the following information:

1. Specific reference. A specific reference to the regulation or other agency action that the commenter believes the Department should consider with respect to the goals of E.O. 13990 and E.O. 13992. This should be a citation to the Code of Federal Regulations, a guidance document number, or an internet link. A specific reference will assist the Department in identifying the regulation or other agency action, the original source of the action, and relevant documentation that may describe the history and effects of the action.

2. Description of effects. A description of the effects of the identified regulation or other agency action. A comment that describes the relationship between the regulation or other agency action and the goals of E.O. 13990 and E.O. 13992 is more useful than a comment that merely asserts that the action is either consistent or inconsistent with the executive orders. Comments that reflect knowledge of or an understanding of the effects and provide data or other information describing those effects are more creditable than comments that do not provide such information. Verifiable, quantifiable data describing the effects are more useful than anecdotal descriptions.

3. Description of potential alternative actions. If the commenter believes that a regulation or other agency action may be developed that achieves the goals of E.O. 13990 and E.O. 13992, the commenter should describe that regulation or action in detail. Likewise, if the commenter believes that a regulation or other agency action currently meets the goals of one or both executive orders, the commenter should provide that explanation.

4. Examples of affected entities or projects. Commenters may provide examples of entities that are, have been, or will be negatively affected by the identified regulation or other agency action, and examples of entities that will benefit if DOT acts to address the negative effects of the regulation or other agency action. A comment listing specific entities is more useful because it will assist the Department in investigating any negative effects and how DOT may most effectively address these effects.

Scope of Comments: The Department is interested in comments on any DOT regulation or other agency action for consideration regarding consistency, with the policies and objectives of E.O. 13990 and E.O. 13992.

Dated: April 28, 2021.
John E. Putnam,
Acting General Counsel.

[FR Doc. 2021-09239 Filed 5-4-21; 8:45 am]

BILLING CODE P